DEPARTMENT OF TRANSPORTATION

Federal Aviation Administration

Notice of Intent To Rule on Application To Impose and Use a Passenger Facility Charge (PFC) at Phoenix Sky Harbor International Airport, Phoenix, AZ.

AGENCY: Federal Aviation Administration (FAA), DOT.

ACTION: Notice of intent to rule on application.

SUMMARY: The FAA proposes to rule and invites public comment on the application to impose and use the revenue from a PFC at Phoenix Sky Harbor International Airport under the provisions of the 49 United States Code (U.S.C.) 40117 and Part 158 of the Federal Aviation Regulations (14 CFR part 158).

DATES: Comments must be received on or before October 12, 2004.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. David Cavazos, Acting Director, City of Phoenix Aviation Department, 3400 Sky Harbor Blvd., Phoenix, AZ 95034.

Air carriers and foreign air carriers may submit copies of written comments previously provided to the city of Phoenix under section 158.23 of Part 158.

FOR FURTHER INFORMATION CONTACT: Mike Agaibi, Arizona Standards Section Supervisor, FAA Airports Division, 15000 Aviation Blvd., Room 3012, Lawndale, CA 90261. Telephone : (310) 725-3632. The application may be reviewed in person at this same location.

SUPPLEMENTARY INFORMATION: The FAA proposes to rule and invites public comment on the application to impose and use the revenue from a PFC at Phoenix Sky Harbor International Airport under the provisions of the 49 United States Code (U.S.C.) 40117 and Part 158 of the Federal Aviation Regulations (14 CFR Part 158).

On July 23, 2004, the FAA determined that the application to impose and use a PFC submitted by the city of Phoenix was substantially complete within the requirements of section 158.25 of Part 158. The FAA will approve or disapprove the application, in whole or in part, no later than October 26, 2004.

The following is a brief overview of the application No. 04-07-C-00-PHX.

Level of proposed PFC: $4.50.

Proposed charge effective date: January 1, 2005.

Proposed charge expiration date: July 1, 2007.

Total estimated PFC revenue: $200,500,000.

Brief description of the proposed projects: Community Noise Reduction Program (Voluntary Land Acquisition/Property Exchange), Terminal 4 Expansion, Airside Reconstruction, Automated People Mover Design Completion, and Capital Security Improvements.

Class or classes of air carriers which the public agency has requested not be required to collect PFCs: Nonscheduled/On-Demand Air Carriers filing FAA form 1800-31 and Commuters or Small Certificated Air Carriers filing DOT form 298-C T1 or E1.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at the Commonwealth Ports Authority.

Issued in Lawndale, California, on August 16, 2004.
Jaime Duran,
Acting Manager, Planning and Programming Branch, Western-Pacific Region.

[FR Doc. 04-20492 Filed 9-9-04; 8:45 am]

BILLING CODE 4901-13-M